DEPARTMENT OF TRANSPORTATION

Federal Highway Administration

Environmental Impact Statement: Calhoun, Clarendon and Sumter Counties, SC

AGENCY: Federal Highway Administration (FHWA), DOT.

ACTION: Notice of intent.

SUMMARY: The FHWA is issuing this notice to advise the public that an environmental impact statement (EIS) will be prepared for a proposed highway facility from S.C. Route 267 near Lone Star in Calhoun County to S-52 near Rimini and Pinewood in Clarendon and Sumter Counties, South Carolina.

FOR FURTHER INFORMATION CONTACT: Carol G. Adkins, Environmental Program Manager, Federal Highway Administration, 1835 Assembly Street, Suite 1270, Strom Thurmond Federal Building, Columbia, South Carolina 29201, Telephone: (803) 765-5460.

SUPPLEMENTARY INFORMATION: The FHWA, in cooperation with the South Carolina Department of Transportation (SCDOT), will prepare an environmental impact statement on the proposed Lone Star to Rimini Connector from S.C. Route 267 near Lone Star in Calhoun County across Lake Marion to S-52 near Rimini and Pinewood in Clarendon and Sumter Counties, South Carolina. The proposed route would be approximately 9.3 miles in length and would consist of one travel lane for each direction of traffic with shoulder widths of eight feet. Alternatives under consideration include: (1) Taking no action (no-build; (2) locating the proposed roadway immediately adjacent to the northwest side of the existing CSX railroad trestle; and, (3) locating the proposed roadway immediately adjacent to the southeast side of the existing CSX railroad trestle.

The FHWA and SCDOT are seeking input as a part of the scoping process to assist in determining and clarifying issues relative to this project. Letters describing the proposed action and soliciting comments have been sent by the SCDOT to appropriate Federal, State, and local agencies, and to private organizations and citizens who have previously expressed or are known to have interest in this proposal. Formal public scoping meetings are planned for early 2001. Early coordination with State and Federal permit and resource agencies will be completed in the development of the draft EIS. The U.S. Army Corps of Engineers, the U.S. Fish and Wildlife Service, and the National Marine Fisheries Service are being requested to be cooperating agencies due to the likely involvement of the proposal with wetlands and wildlife habitat in the Lake Marion flood plain area. At least one location public hearing will be held for which public notice will be given of the time and place of the hearings. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Issued on: November 20, 2000.
Robert L. Lee,
Division Administrator, Columbia, South Carolina.

[FR Doc. 00-30512 Filed 11-29-00; 8:45 am]

BILLING CODE 4910-22-M